DEPARTMENT OF THE INTERIOR

Bureau of Land Management

[LLNVC01000.L19200000.ET0000; LRORF1709600; MO# 4500119564]

Notice of Amended Application for Withdrawal Expansion and Opportunity for Public Meeting; Nevada

AGENCY: Bureau of Land Management, Interior.

ACTION: Notice of Amended Withdrawal Application for Expansion.

SUMMARY: In accordance with the Engle Act of 1958 and the Federal Land Policy and Management Act of 1976, as amended, (FLPMA), the Department of the Navy (DON) has amended its 2016 Engle Act application for withdrawal to add 92,482.45 acres of public lands and 1,001 acres of non-federally owned lands to its original application for the withdrawal and reservation by Congress of 678,670.69 acres of public lands. These lands are located near Naval Air Station (NAS) Fallon, Nevada, for the Fallon Range Training Complex (FRTC).

DATES: Comments on the amended withdrawal application including the environmental consequences of a withdrawal for military purposes of 92,482.45 acres of public land should be received on or before August 2, 2018. In addition, a public meeting will be held to help the public understand the withdrawal and the associated decision-making process. The meeting will be held on Tuesday, June 19, 2018, from 5 p.m. to 7 p.m.

ADDRESSES: Comments pertaining to this Notice should be submitted by any of the following methods:

• Email: BLM_NV_FRTC@blm.gov

• Fax: 775-885-6147

• Mail: BLM Carson City District, Attn: NAS Fallon FRTC, 5665 Morgan Mill Road, Carson City, NV 89701

• The public meeting will be held at the Fallon Convention Center, 100 Campus Way, Fallon, NV 89406.

FOR FURTHER INFORMATION CONTACT: Colleen Dingman, BLM, Carson City District Office, 775-885-6168; address: 5665 Morgan Mill Road, Carson City, NV 89701; email: cjdingman@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The DON filed an amended application requesting the withdrawal and reservation of additional public lands for military training exercises involving NAS Fallon, Churchill County, Nevada. The DON proposed withdrawal amendment adds 92,482.45 acres of public lands and 1,001 acres of non-federally owned lands (i.e., lands that would be subject to such action should they enter Federal ownership) to the original land withdrawal expansion application for the withdrawal of the public lands from appropriation under the public land laws, including the mining laws, the mineral leasing laws, and the geothermal leasing laws, subject to valid existing rights, and reservation of the public lands located near FRTC for military use. The original and amended applications requested that Congress expand the area withdrawn and reserved for military purposes at FRTC. Currently, the FRTC occupies 223,557 acres of public lands withdrawn and reserved for its use, and the DON has requested renewal of the existing withdrawal and reservation. The Bureau of Land Management (BLM) notified the public of the original land withdrawal expansion application consisting of 678,670.69 additional acres on September 2, 2016, with a Notice published in the Federal Register (81 FR 60736). The DON also requests partial cancellation and removal of 2,429.80 acres of public lands from the original land withdrawal expansion application for the withdrawal and reservation of public lands located near the FRTC. The entire FRTC expansion area—beyond the existing withdrawal—consists of 769,724.34 acres that are requested to be withdrawn from appropriation under the public land laws, including the mining laws, the mineral leasing laws, and the geothermal leasing laws, subject to valid existing rights, and reserved for military purposes. As required by section 204(b)(1) of FLPMA, 43 U.S.C. 1714(b)(1), and the BLM regulations at 43 CFR part 2300, the BLM is publishing this Notice of the DON amended application. While the BLM and the Department of the Interior (DOI) assist the DON with the processing of this application, Congress, not the Secretary, will make the decision on expansion of the existing NAS Fallon withdrawal.

Upon publication of this Notice in the Federal Register, the public lands described will be segregated from all forms of appropriation under the public land laws, including the mining laws, the mineral leasing laws, and the geothermal leasing laws, subject to valid existing rights for two years. The acres of public land segregated upon publication of this Notice totals 92,482.45 acres.

The DON, in accordance with the Engle Act, (43 U.S.C. 155-158), has filed an application requesting withdrawal and reservation of additional Federal lands for military training exercises involving NAS Fallon, Churchill County, Nevada (the “expansion area”). The DON requests that the land be withdrawn from all forms of appropriation under the public land laws, including the mining laws, the mineral leasing laws, and the geothermal leasing laws, subject to valid existing rights and reserved for use of the DON for testing and training involving air-to-ground weapons delivery, tactical maneuvering, use of electromagnetic spectrum, land warfare maneuver, and air support, as well as other defense-related purposes consistent with these purposes. The amended expansion area consists of the lands and interests in lands described below and adjacent to the exterior boundaries of NAS Fallon FRTC Dixie Valley Training Area, located in Churchill County, Nevada and NAS Fallon FRTC B-17 area, located in Churchill, Mineral, and Nye Counties, Nevada.

The area within the Dixie Valley Training Area aggregate 16,370.50 acres. Portions of these lands are unsurveyed and the acres obtained from protraction diagram information or calculated using Geographic Information System.

Mount Diablo Meridian, Nevada

Dixie Valley Training Area, Additional Lands

Bureau of Land Management

T. 18 N., R. 33 E., unsurveyed,

Sec. 3.

T. 19 N., R. 32 E., unsurveyed,

Sec. 13.

T. 19 N., R. 33 E., unsurveyed,

Sec. 20, SE¼ and N½;

Secs. 21 thru 27;

Sec. 28, E½;

Secs. 34 and 35.

T. 19 N., R. 35 E.,

Sec. 12, S½SW¼SW¼;

Sec. 13.

T. 19 N., R. 36 E.,

Sec. 19, E½.

T. 20 N., R. 33 E., unsurveyed,

Sec. 1, SE¼;

Secs. 7 and 8;

Sec. 9, NW¼ and S½;

Sec. 10, S½;

Sec. 11, NE¼ and S½;

Sec. 12.

T. 20 N., R. 33 ½ E., unsurveyed,

Sec. 1, S½;

Sec. 12.

T. 20 N., R. 34 E., unsurveyed,

Sec. 6, S½;

Sec. 7.

T. 20 N., R. 35 E.,

Sec. 2;

Sec. 11;

Sec. 14;

Sec. 23.

The additional lands area described for Dixie Valley Training Area contains 16,370.50 acres in Churchill County.

Department of Defense Fee Owned Lands

None

Non-federally Owned Lands

None

Mount Diablo Meridian, Nevada

Dixie Valley Training Area, Partial Cancellation and Removal Lands

Bureau of Land Management

T. 21 N., R. 35 E.,

Sec. 13, lot 16 south of the southerly line of the dirt road;

Sec. 24, lots 1 and 2 south of the southerly line of the dirt road, lots 7 thru 10, 15 and 16.

T. 21 N., R. 36 E.,

Sec. 16, south of the southerly line of the dirt road;

Sec. 17, south of the southerly line of the dirt road;

Sec. 18, lots 3 and 4 south of the southerly line of the dirt road, E½W½ south of the southerly line of the dirt road and E1/2 south of the southerly line of the dirt road;

Sec. 19, lots 1 thru 4, E½W½, E½;

Sec. 20.

The partial cancellation and removal lands area described for Dixie Valley Training Area contains 2,429.80 acres in Churchill County.

Department of Defense Fee Owned Lands

None

Non-federally Owned Lands

None

Mount Diablo Meridian, Nevada

B-17, Additional Lands

Bureau of Land Management

T. 11 N., R. 34 E.,

Secs. 1 thru 3;

Sec. 4, lot 4, S½SE¼, SW¼NW¼, NW¼SW¼ and S½SW¼;

Sec. 5;

Sec. 6, lots 1 and 2, S½NE¼ and SE¼;

Secs. 9 thru 12;

Sec. 13, N½;

Sec. 14, N½;

Sec. 15, N½;

Sec. 16, N½;

T. 12 N., R. 34 E.,

Sec. 1;

Secs. 11 thru 15;

Secs. 19 thru 27;

Sec. 28, NE¼, N½NW¼, SW¼NW¼, E½SE¼ and S½SW¼;

Sec. 29, N½, SE¼SE¼, W½SE¼ and SW¼;

Sec. 30;

Sec. 31, E½;

Sec. 32;

Sec. 33, E½NE¼ and NW¼;

Secs. 34 thru 36;

T. 11 N., R. 35 E.,

Sec. 4, lots 3 and 4, SW¼ and S½NW¼;

Secs. 5 thru 7;

Sec. 8, W½;

T. 12 N., R. 35 E.,

Sec. 1 thru 12;

Sec. 13, W½;

Secs. 14 thru 23;

Sec. 26, N½;

Secs. 27 thru 33;

Sec. 34, N½;

T. 13 N., R. 35 E., unsurveyed,

Secs. 1 thru 3;

Sec. 4, E½;

Sec. 9, NE¼ and S½;

Secs. 10 thru 16;

Secs. 21 thru 29;

Secs. 31 thru 36;

T. 14 N., R. 35 E., unsurveyed,

Sec. 2, W½;

Sec. 3;

Sec. 4, E½;

Sec. 9, that portion lying east of the westerly right-of-way line of State Route 361;

Secs. 10 and 11;

Sec. 13, W½;

Secs. 14 and 15;

Sec. 16, that portion lying east of the westerly right-of-way line of State Route 361;

Sec. 21, that portion lying east of the westerly right-of-way line of State Route 361;

Sec. 22 thru 27;

Sec. 28, E½NE¼ and E½SE¼;

Sec. 33, E½NE¼ and E½SE¼;

Secs. 34 thru 36;

T. 15 N., R. 35 E., unsurveyed,

Sec. 28, SE¼;

Sec. 33, E½;

Sec. 34;

T. 12 N., R. 36 E.,

Sec. 6, lots 3 thru 7, SE¼NW¼ and E½SW¼;

T. 13 N., R. 36 E., unsurveyed,

Sec. 6, W½;

Sec. 7;

Sec. 18 and 19;

Sec. 30;

Sec. 31, W½;

T. 14 N., R. 36 E., unsurveyed,

Sec. 31, W½;

The additional lands area described for B-17 contains 76,111.95 acres in Churchill, Mineral, and Nye Counties.

Department of Defense Fee Owned Lands

None

Non-federally Owned Lands

T. 11 N., R. 34 E.,

Sec. 4, lots 1 thru 3, S½NE¼, SE¼NW¼, N½SE¼ and NE¼SW¼;

T. 12 N., R. 34 E.,

Sec. 28, SE¼NW¼, W½SE¼ and N½SW¼;

Sec. 29, NE¼SE¼;

Sec. 33, W½NE¼ and S½;

The additional lands area described for B-17 contains 1,001.00 acres in Mineral and Nye Counties.

In the event any non-federally owned lands within the requested withdrawal area return or pass to Federal ownership in the future, they would be subject to the terms and conditions described above.

The DON has amended its application to request additional lands at NAS Fallon FRTC to be used by the DON for testing and training involving air-to-ground weapons delivery, tactical maneuvering, use of electromagnetic spectrum, land warfare maneuver, and air support, as well as other defense-related purposes consistent with these purposes. National defense requirements are rapidly evolving in response to new and emerging worldwide threat conditions. The Department of Defense has responded to these new and emerging threats with advances in combat platform and weapon technologies, in an effort to maintain a competitive edge in combat operations abroad. The evolution of modern combat systems has placed an increased demand on tactical training ranges to meet combat pre-deployment training requirements. For the DON, 100 percent of deploying naval strike aviation units train at the FRTC prior to deployment. A significant percentage of deploying Naval Special Warfare units also trains at FRTC. The introduction of modern and advanced weapons systems already exceeds the DON's ability to train realistically at the FRTC while maintaining public safety. Training protocol of exercising Tactics, Techniques, and Procedures are severely limited due to a lack of adequate training space at the FRTC. These limitations diminish the Navy's ability to train to realistic employment methods of existing weapons systems. Extension and expansion of the withdrawn and reserved Federal lands at NAS Fallon are essential to the DON to provide a realistic tactical training at the FRTC while continuing to provide for public safety.

A copy of the legal descriptions and the maps depicting the lands that are the subject of the DON's application, as amended, are available for public inspection at the following offices:

State Director, BLM Nevada State Office, 1340 Financial Blvd., Reno, Nevada 89502, and District Manager, BLM Carson City District Office, 5665 Morgan Mill Road, Carson City, Nevada 89701.

For a period until August 2, 2018 all persons who wish to submit comments, suggestions, or objections in connection with the withdrawal applications may present their comments in writing to the persons and offices listed in the ADDRESSES section above. All comments received will be considered before any recommendation for withdrawal is presented to Congress.

In addition, a public meeting addressing the amended withdrawal application will be held to help the public understand the amended withdrawal application and the associated process for decision-making; please see the DATES and ADDRESSES sections for details.

The DON is the lead agency for evaluation of the proposed withdrawal expansion as pursuant to the National Environmental Policy Act of 1970, as amended (NEPA) 42 U.S.C. 4371 et seq., and other applicable environmental and cultural resources authorities.

Comments including names and street addresses of respondents will be available for public review at the BLM addresses noted above, during regular business hours Monday through Friday, except Federal holidays. Before including your address, phone number, email address, or other personally identifiable information in your comment, you should be aware that your entire comment—including your personally identifiable information—may be publicly available at any time. While you can ask the BLM in your comment to withhold your personally identifiable information from public review, we cannot guarantee that we will be able to do so.

For a period until May 4, 2020, subject to valid existing rights, the Federal lands that are described in this Notice as added to the DON's withdrawal application will be segregated, for two years, from all forms of appropriation under the public land laws, including the mining laws, the mineral leasing laws, and the geothermal leasing laws, unless the applications/proposal are denied or canceled or the withdrawal is approved prior to that date. The acres of public land segregated upon publication of this Notice totals 92,482.45 acres. Licenses, permits, cooperative agreements, or discretionary land use authorizations may be allowed during the period of segregation, but only with the approval of the authorized officer and, as appropriate, with the concurrence of the DON.

Pursuant to 43 CFR 2310.1-4, the segregative effect for the 2,429.80 acres described above is terminated, and the lands opened as follows: At 9 a.m. on June 4, 2018 the 2,429.80 acres of public lands in Churchill County, identified by the DON as no longer needed for their application for legislative withdrawal, and legally described above, will be opened to the operation of the general land laws and to location and entry under the United States mining laws, subject to valid existing right, the provision of existing withdrawals, and other segregations of record, and other applicable law, including the provisions of 43 U.S.C. 1782. Appropriation of any of the land described in this order under the general mining laws prior to the date and time of restoration is unauthorized. Any such attempted appropriation, including attempted adverse possession under 30 U.S.C. 38 (1988), shall vest no rights against the United States. Acts required to establish a location and to initiate a right of possession are governed by State law where not in conflict with Federal law. The BLM will not intervene in disputes between rival locators over possessory rights, because Congress has provided for such determinations in local courts. All valid applications under any other general land laws received at or prior to 9 a.m. on June 4, 2018 shall be considered as simultaneously filed at that time. Those received thereafter shall be considered in the order of filing.

Authority: 43 CFR 2300.

Michael C. Courtney,
Acting State Director, Nevada.

[FR Doc. 2018-09665 Filed 5-3-18; 8:45 am]

BILLING CODE 4310-HC-P